ENVIRONMENTAL PROTECTION AGENCY

[EPA-HQ-OLEM-2018-0105; FRL-9975-67-OLEM]

Proposed Information Collection Request; Comment Request; Implementation of the Oil Pollution Act Facility Response Plan Requirements (Renewal)

AGENCY: Environmental Protection Agency (EPA).

ACTION: Notice.

SUMMARY: The Environmental Protection Agency (EPA) is planning to submit an information collection request (ICR), “Oil Pollution Act Facility Response Plans—40 CFR part 112.20” (EPA ICR No. 1630.13, OMB Control No. 2050-0135) to the Office of Management and Budget (OMB) for review and approval in accordance with the Paperwork Reduction Act (PRA). Before doing so, EPA is soliciting public comments on specific aspects of the proposed information collection as described below. This is a proposed extension of the ICR, which is currently approved through August 31, 2018. An Agency may not conduct or sponsor and a person is not required to respond to a collection of information unless it displays a currently valid OMB control number.

DATES: Comments must be submitted on or before May 21, 2018.

ADDRESSES: Submit your comments, referencing Docket ID No. EPA-HQ-OLEM-2018-0105 referencing the Docket ID numbers provided for each item in the text, online using www.regulations.gov (our preferred method), by email to swackhammer.j-troy@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: J. Troy Swackhammer, Office of Emergency Management, Mail Code 5104A, Environmental Protection Agency, 1200 Pennsylvania Ave. NW, Washington, DC 20460; telephone number: 202-564-1966; email address: swackhammer.j-troy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The authority for EPA's facility response plan (FRP) requirements is derived from section 311(j)(5) of the Clean Water Act, as amended by the Oil Pollution Act of 1990. EPA's regulation is codified at 40 CFR 112.20 and 112.21 and related appendices. All FRP reporting and recordkeeping activities are mandatory. This information collection request renewal has substantively changed from the last ICR approval (August 21, 2015) due to a reduction in the plan holder universe as a result of facility closures and reductions in storage capacities, rendering these facilities no longer subject to FRP requirements. The purpose of an FRP is to help an owner or operator identify the necessary resources to respond to an oil spill in a timely manner. If implemented effectively, the FRP will reduce the impact and severity of oil spills and may prevent spills because of the identification of risks at the facility. Although the owner or operator is the primary data user, EPA also uses the data in certain situations to ensure that facilities comply with the regulation and to help allocate response resources. State and local governments may use the data, which are not generally available elsewhere and can greatly assist local emergency preparedness planning efforts. The EPA reviews all submitted FRPs and must approve FRPs for those facilities whose discharges may cause significant and substantial harm to the environment in order to ensure that facilities believed to pose the highest risk have planned for adequate resources and procedures to respond to a spill. (See 40 CFR 112.20(f)(3) for further information about the criteria for significant and substantial harm.) None of the information collected under the FRP rule is believed to be confidential. One of the criteria necessary for information to be classified as confidential (40 CFR 2.208) is that a business must show that it has previously taken reasonable measures to protect the confidentiality of the information and that it intends to continue to take such measures. The EPA has provided no assurances of confidentiality to facility owners or operators when they file their FRPs.

Form Numbers: None.

Respondents/Affected Entities: Entities potentially affected by this action are the owner or operator of a facility that is required to have a Spill Prevention, Control, and Countermeasure (SPCC) plan under the Oil Pollution Prevention regulation (40 CFR part 112) and that could cause substantial harm to the environment, and must prepare and submit an FRP to EPA. The applicability criteria for a substantial harm facility are: (1) The facility transfers oil over water to or from a vessel and has a total storage capacity of greater than or equal to 42,000 gallons; or (2) the facility's total oil storage capacity is greater than or equal to one million gallons and one or more of the following harm factors are met: Insufficient secondary containment for aboveground storage tanks at the facility; a discharge of oil could impact fish and wildlife and sensitive environments; a discharge of oil could shut down a drinking water intake; the facility has experienced a reportable oil discharge of 10,000 gallons or more in last 5 years; or other factors considered by the Regional Administrator. (See 40 CFR 112.20(b)(1) and (f) for further information about the criteria for substantial harm.)

Respondent's Obligation to Respond: Mandatory under section 311(j)(5) of the Clean Water Act, as amended by the Oil Pollution Act of 1990.

Estimated Number of Respondents: 22,274 (total).

Frequency of Response: Less than once per year.

Total Estimated Burden: 378,828 hours (per year). Burden is defined at 5 CFR 1320.03(b)

Total Estimated Cost (With Overhead): $16,019,855 (per year), includes $3,355 annualized capital or operation & maintenance costs.

Changes in Estimates: The EPA estimates that there is a reduction in the hours of total estimated respondent burden (approximate reduction of 84,591 hours) compared with the ICR currently approved by OMB. This estimate is based on EPA's current inventory of facilities that have submitted and are maintaining an FRP as per 40 CFR part 112. The EPA has not amended the FRP regulation since the last ICR renewal that would affect the per-facility burden. The EPA will consider the comments received and amend the ICR as appropriate.

Dated: February 26, 2018.
Reggie Cheatham,
Director, Office of Emergency Management.

[FR Doc. 2018-05760 Filed 3-20-18; 8:45 am]

BILLING CODE 6560-50-P